DEPARTMENT OF TRANSPORTATION

National Highway Traffic Safety Administration

[Docket No. NHTSA-2012-0059]

Request for Comments on a Renewal of a Previously Approved Information Collection: Production Plan Reports

AGENCY: National Highway Traffic Safety Administration (NHTSA), Department of Transportation (DOT).

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on June 12, 2012 (77 FR 35110). No comments were received.

DATES: Comments must be submitted on or before December 21, 2012.

FOR FURTHER INFORMATION CONTACT: Kenneth R. Katz, Fuel Economy Division, Office of International Policy, Fuel Economy and Consumer Programs, NVS-132, National Highway Traffic Safety Administration, U.S. Department of Transportation, 1200 New Jersey Avenue SE., Washington, DC 20590. Phone: (202) 366-4936.

SUPPLEMENTARY INFORMATION: Title: 49 CFR Parts 531 and 533 Passenger Car Average Fuel Economy Standards—Model Years 2016-2025; Light Truck Average Fuel Economy Standards—Model Years 2016-2025; Production Plan Data.

OMB Control Number: 2127-0655.

Type of Request: Renewal of a previously approved information collection.

Abstract: In this collection of information, NHTSA is requesting updated future product plans from vehicle manufacturers, as well as production data through the recent past, including data about engines and transmissions for model year MY 2012 through MY 2025 passenger cars and light trucks and the assumptions underlying those plans.

NHTSA requests information for MYs 2012-2025 to aid NHTSA in developing a realistic forecast of the MY 2016-2025 vehicle market. Information regarding earlier model years may help the agency to better account for cumulative effects such as volume and time-based reductions in costs, and also may help to reveal product mix and technology application trends during model years for which the agency is currently receiving actual corporate average fuel economy (CAFE) compliance data. Information regarding later model years helps the agency gain a better understanding of how manufacturers' plans through MY 2025 relate to their longer-term expectations regarding Energy Independence and Security Act requirements, market trends and prospects for more advanced technologies.

NHTSA will also consider information from model years before and after MYs 2016-2025 when reviewing manufacturers' planned schedules for redesigning and freshening their products in order to examine how manufacturers anticipate tying technology introduction to product design schedules. In addition, the agency is requesting information regarding manufacturers' estimates of the future vehicle population, and fuel economy improvements and incremental costs attributed to this notice.

Affected Public: Automobile manufacturers.

Number of Respondents: 30.

Number of Responses: 30.

Total Annual Burden Hours: Reports are requested from each of the thirty automotive manufacturers. For each manufacturer who supplies product plan reports, NHTSA has made available a product plan template, which can be found at: http://www.nhtsa.gov/Laws+&+Regulations/CAFE+-+Fuel+Economy/Current+and+past+product+plan+requests.

NHTSA currently has a clearance for 16,000 hours, based on reports being received from 22 manufacturers. Including reports from eight additional manufacturers, most of which produce approximately 500 vehicles per year, results in an additional reporting burden of 500 hours. Adding that burden to the existing burden of 16,000, results in a total reporting burden of 16,500 hours. The information requested in the templates may change from request to request as new fuel economy technologies are implemented, which may increase the amount of information requested, and as older technologies are phased out, which may decrease the amount of information requested. Therefore, the time needed to complete the templates may vary for each product plan request. Although the reporting burden may not be precisely 16,500 hours for each specific product plan request, NHTSA believes that, based on prior experience, that this burden is representative and accurate for the purposes of this clearance.

Frequency of Collection: Manufacturer product plans are requested each time that NHTSA initiates a rulemaking for light-duty fuel economy standards. These standards may be issued for a one to five year time frame; thus, manufacturers would be expected to provide these reports every one to five years. Recent NHTSA rulemakings have typically ranged between three and five years. NHTSA generally requests product plans prior to issuing a notice of proposed rulemaking and prior to the issuance of a final rule. Since the gap between the two rules generally is less than a year, manufacturers would be expected to provide two reports for each rulemaking cycle.

ADDRESSES: Send comments regarding the burden estimate, including suggestions for reducing the burden, to the Office of Management and Budget, Attention: Desk Officer for the Office of the Secretary of Transportation, 725 17th Street NW., Washington, DC 20503. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued on: November 15, 2012.
Christopher J. Bonanti,
Associate Administrator for Rulemaking.

[FR Doc. 2012-28305 Filed 11-20-12; 8:45 am]

BILLING CODE 4910-59-P